DEPARTMENT OF COMMERCE

International Trade Administration

[A-201-844]

Steel Concrete Reinforcing Bar From Mexico: Preliminary Results and Rescission, in Part, of Antidumping Duty Administrative Review; 2022-2023

AGENCY: Enforcement and Compliance, International Trade Administration, Department of Commerce.

SUMMARY: The U.S. Department of Commerce (Commerce) preliminarily finds that Deacero S.A.P.I. de C.V. (Deacero) and I.N.G.E.T.E.K.N.O.S. Estructurales, S.A. de C.V. (Ingetek) (collectively, Deacero Group); and TA 2000 S.A. de C.V. (TA 2000) sold steel concrete reinforcing bar (rebar) from Mexico at less than normal value during the period of review (POR), November 1, 2022, through October 31, 2023. Additionally, Commerce is rescinding this administrative review with respect to certain companies. We invite interested parties to comment on these preliminary results.

DATES: Applicable December 2, 2024.

FOR FURTHER INFORMATION CONTACT: Kyle Clahane or T.J. Worthington, AD/CVD Operations, Office III, Enforcement and Compliance, International Trade Administration, U.S. Department of Commerce, 1401 Constitution Avenue NW, Washington, DC 20230; telephone: (202) 482-5449 or (202) 482-4567, respectively.

SUPPLEMENTARY INFORMATION:

Background

On November 6, 2014, Commerce published in the Federal Register the antidumping duty (AD) order on rebar from Mexico.¹ On November 2, 2023, we published in the Federal Register a notice of opportunity to request an administrative review of the Order.² On December 29, 2023, pursuant to section 751(a)(1) of the Tariff Act of 1930, as amended (the Act), Commerce initiated an administrative review of the Order covering eleven companies.³ On July 22, 2024, Commerce tolled certain deadlines in this administrative proceeding by seven days.⁴ On July 29, 2024, Commerce extended the deadline for the preliminary results until November 22, 2024.⁵

¹ See Steel Concrete Reinforcing Bar from Mexico: Antidumping Duty Order, 79 FR 65925 (November 6, 2014) (Order).

² See Antidumping or Countervailing Duty Order, Finding, or Suspended Investigation; Opportunity to Request Administrative Review and Join Annual Inquiry Service List, 88 FR 75270 (November 2, 2023).

³ See Initiation of Antidumping and Countervailing Duty Administrative Reviews, 88 FR 90168 (December 29, 2023) (Initiation Notice).

⁴ See Memorandum, “Tolling of Deadlines for Antidumping and Countervailing Duty Proceedings,” dated July 22, 2024.

⁵ See Memorandum, “Extension of Deadline for Preliminary Results of Antidumping Duty Administrative Review,” dated July 29, 2024.

For a complete description of the events that followed the initiation of this review, see the Preliminary Decision Memorandum.⁶ A list of topics discussed in the Preliminary Decision Memorandum is attached as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁶ See Memorandum, “Decision Memorandum for the Preliminary Results of the of the Administrative Review of the Antidumping Duty Order: Steel Concrete Reinforcing Bar from Mexico; 2022-2023,” dated concurrently with, and hereby adopted by, this notice (Preliminary Decision Memorandum).

Scope of the Order

The product covered by this Order is rebar from Mexico. For a full description of the scope of the Order, see the Preliminary Decision Memorandum.

Rescission of Review, In Part

As noted above, we initiated this review with respect to 11 companies.⁷ During the course of the review, we selected two mandatory respondents, which included three of the named companies.⁸ As a consequence, there are eight companies upon which a review was requested and which were not selected for individual examination.

⁷ See Initiation Notice, 88 FR at 90170- 90171. Commerce previously found Deacero and Ingetek to be affiliated, and we continue to treat them as a single entity. See Steel Concrete Reinforcing Bar from Mexico: Final Results of Antidumping Duty Administrative Review; 2020-2021, 88 FR 37849 (June 9, 2023) (Rebar from Mexico AR 2020-2021 Final), and accompanying Issues and Decision Memorandum (IDM) at Comment 3. Therefore, they were listed together in the Initiation Notice. Separately, Commerce has previously collapsed Grupo Simec S.A.B. de C.V.; Aceros Especiales Simec Tlaxcala, S.A. de C.V.; Fundiciones de Acero Estructurales, S.A. de C.V.; Grupo Chant, S.A.P.I. de C.V.; Operadora de Perfiles Sigosa, S.A. de C.V.; Orge S.A. de C.V.; Perfiles Comerciales Sigosa, S.A. de C.V.; Siderurgicos Noroeste, S.A. de C.V.; Simec International 6 S.A. de C.V.; Simec International 7, S.A. de C.V.; and Simec International, S.A. de C.V. into the single entity “Grupo Simec.” Therefore, they were listed together in the Initiation Notice. See Rebar from Mexico AR 2020-2021 Final IDM at Comment 3; see also Steel Concrete Reinforcing Bar from Mexico: Preliminary Results of Antidumping Duty Administrative Review; 2016-2017, 83 FR 63622 (December 11, 2018), and accompanying memorandum, “Affiliation and Collapsing Memorandum for the Grupo Simec,” dated December 3, 2018, unchanged in Steel Concrete Reinforcing Bar from Mexico: Final Results of Antidumping Duty Administrative Review; 2016-2017, 84 FR 35599 (July 24, 2019).

⁸ See Memorandum, “Respondent Selection,” dated March 1, 2024. As discussed below in the “Preliminary Successor-in-Interest Determination” section below, Commerce has preliminarily determined that TA 2000 is the successor-in-interest to Talleres y Aceros S.A. de C.V. (TYASA).

Commerce received a timely withdrawal request within 90 days of the date of publication of the Initiation Notice with respect to Gerdau Corsa S.A.P.I. de C.V. (Gerdau Corsa).⁹ No other party requested a review of this company. As a result, Commerce is rescinding this review, in part, with respect to Gerdau Corsa in accordance with 19 CFR 351.213(d)(1).¹⁰

⁹ See Gerdau Corsa's Letter, “Withdrawal of Request for Administrative Review,” dated January 25, 2024.

¹⁰ See Appendix II.

In addition, pursuant to 19 CFR 351.213(d)(3), Commerce will rescind an administrative review when there are no reviewable suspended entries. Based on our analysis of U.S. Customs and Border Protection (CBP) information, eight companies listed in the Initiation Notice had no entries of subject merchandise during the POR, including one of which had all its requests for review timely withdrawn (i.e., Gerdau Corsa) and seven that remain subject to a review request. On March 26, 2024, we notified parties of our intent to rescind this administrative review with respect to the companies that had no reviewable suspended entries during the POR.¹¹ No party to the proceeding provided comments on our Intent to Rescind Memorandum. As a result, we are rescinding this review, in part, with respect to the remaining seven companies which had no entries in the POR.¹² Accordingly, the companies that remain subject to the instant review are Deacero Group and TA 2000.

¹¹ See Memorandum, “Notice of Intent to Rescind Review, In Part,” dated March 26, 2024 (Intent to Rescind Memorandum).

¹² See Appendix II. As explained above, in accordance with 19 CFR 351.213(d)(1), Commerce is also rescinding this review, in part, with respect to Gerdau Corsa based on receiving a timely withdrawal request.

Preliminary Successor-in-Interest Determination

Commerce initiated this administrative review with respect to eleven companies, including TA 2000 and TYASA.¹³ TA 2000 reported that the company was formerly named TYASA, and continues to market and sell merchandise under the TYASA brand name.¹⁴ We requested additional information, which TA 2000 submitted in response to a supplemental questionnaire.¹⁵ We have analyzed record information regarding changes in TYASA's management, manufacturing facilities, customers, and suppliers, and preliminarily determine that TA 2000 is the successor-in-interest to TYASA. Accordingly, we have treated TYASA and TA 2000 as the same company in our analysis in this review. See the Preliminary Decision Memorandum for further information. Should our preliminary successor-in-interest determination remain unchanged in the final results of review, we will instruct CBP to apply the assessment rates that we calculated for TA 2000 to POR entries of subject merchandise from both TA 2000 and TYASA.

¹³ See Initiation Notice, 88 FR at 90171.

¹⁴ See Preliminary Decision Memorandum (citing TA 2000's Letter, “Section A Response,” dated April 25, 2024, at 1).

¹⁵ See Preliminary Decision Memorandum (citing Commerce's Letter, “Supplemental Questionnaire for TA 2000,” dated August 21, 2024, and TA 2000's Letter, “Supplemental Response,” dated September 23, 2024).

Methodology

Commerce is conducting this review in accordance with section 751(a)(1)(B) of the Act. Export price was calculated in accordance with section 772 of the Act. Normal value was calculated in accordance with section 773 of the Act. For a full description of the methodology underlying our conclusions, see the Preliminary Decision Memorandum.

Preliminary Results of Review

As a result of this review, we preliminarily determine the following estimated weighted-average dumping margins exist for the period November 1, 2022, through October 31, 2023:

Producer/exporter | Weighted-average dumping margin (percent)
Deacero S.A.P.I. de C.V./I.N.G.E.T.E.K.N.O.S. Estructurales S.A | 8.88
TA 2000 S.A. de C.V. ¹⁶ | 22.27

Disclosure and Public Comment

¹⁶ As discussed in further detail in the Preliminary Decision Memorandum, we preliminarily determine that TA 2000 is the successor-in-interest to Talleres y Aceros S.A. de C.V.

Commerce intends to disclose the calculations performed in connection with these preliminary results to interested parties within five days of the date of publication of this notice in accordance with 19 CFR 351.224(b).¹⁷

¹⁷ See 19 CFR 351.224(b).

Interested parties may submit case briefs no later than 30 days after the date of publication of this notice.¹⁸ Rebuttal briefs, limited to issues raised in the case briefs, may be filed no later than five days after the date for filing case briefs.¹⁹ Interested parties who submit case or rebuttal briefs in this proceeding must submit: (1) a table of contents listing each issue; and, (2) a table of authorities.²⁰

¹⁸ See 19 CFR 351.309(c)(1)(ii).

¹⁹ See 19 CFR 351.309(d); see also Administrative Protective Order, Service, and Other Procedures in Antidumping and Countervailing Duty Proceedings, 88 FR 67069, 67077 (September 29, 2023) (APO and Service Procedures).

²⁰ See 19 CFR 351.309(c)(2) and (d)(2).

As provided under 19 CFR 351.309(c)(2) and (d)(2), in prior proceedings we have encouraged interested parties to provide an executive summary of their briefs that should be limited to five pages total, including footnotes. In this review, we instead request that interested parties provide at the beginning of their briefs a public, executive summary for each issue raised in their briefs.²¹ Further, we request that interested parties limit their public executive summary of each issue to no more than 450 words, not including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).²²

²¹ We use the term “issue” here to describe an argument that Commerce would normally address in a comment of the Issues and Decision Memorandum.

²² See APO and Service Procedures.

Pursuant to 19 CFR 351.310(c), interested parties who wish to request a hearing must submit a written request to the Assistant Secretary for Enforcement and Compliance, U.S. Department of Commerce, using Enforcement and Compliance's ACCESS system within 30 days of publication of this notice. Requests should contain (1) the party's name, address, and telephone number; (2) the number of participants and whether any participant is a foreign national; and (3) a list of the issues to be discussed. Issues raised in the hearing will be limited to those raised in the case and rebuttal briefs. If a request for a hearing is made, we will inform parties of the scheduled date and location for the hearing at a time to be determined.²³ Parties should confirm by telephone the date, time, and location of the hearing no fewer than two days before the scheduled date. Parties are reminded that all briefs and hearing requests must be filed electronically using ACCESS and received successfully in their entirety by 5:00 p.m. Eastern Time on the due date.

²³ See 19 CFR 351.310.

Unless the deadline is extended pursuant to section 751(a)(3)(A) of the Act and 19 CFR 351.213(h)(2), Commerce will issue the final results of this administrative review, including the results of our analysis of the issues raised by the parties in their case briefs, not later than 120 days after the date of publication of this notice, pursuant to section 751(a)(3)(A) of the Act.

Assessment Rates

Upon issuance of the final results, Commerce shall determine, and CBP shall assess, antidumping duties on all appropriate entries covered by this review. The final results of this review shall be the basis for the assessment of antidumping duties on entries of merchandise covered by this review and for future deposits of estimated duties, where applicable.²⁴ Commerce intends to issue assessment instructions to CBP no earlier than 41 days after the date of publication of the final results of this review in the Federal Register, in accordance with 19 CFR 356.8(a).

²⁴ See section 751(a)(2)(C) of the Act.

If the respective weighted-average dumping margins are above de minimis (i.e., 0.50 percent) in the final results of this review, we will calculate importer-specific ad valorem AD assessment rates based on the ratio of the total amount of dumping calculated for the importer's examined sales to the total entered value of those same sales in accordance with 19 CFR 351.212(b)(1).²⁵ If the respondent has not reported entered values, we will calculate a per-unit assessment rate for each importer by dividing the total amount of dumping calculated for the examined sales made to that importer by the total quantity associated with those sales. We will instruct CBP to assess antidumping duties on all appropriate entries covered by this review when the importer-specific assessment rate calculated in the final results of this review is above de minimis (i.e., 0.50 percent). Where either the respondent's weighted-average dumping margin is zero or de minimis, or an importer-specific assessment rate is zero or de minimis, we will instruct CBP to liquidate the appropriate entries without regard to antidumping duties.

²⁵ In these preliminary results, Commerce applied the assessment rate calculation method adopted in Antidumping Proceedings: Calculation of the Weighted-Average Dumping Margin and Assessment Rate in Certain Antidumping Proceedings; Final Modification, 77 FR 8101 (February 14, 2012).

In accordance with Commerce's “automatic assessment” practice, for entries of subject merchandise during the POR produced by the respondents for which they did not know that the merchandise was destined for the United States, we will instruct CBP to liquidate entries not reviewed at the all-others rate if there is no rate for the intermediate company(ies) involved in the transaction.

For the companies for which the administrative review is rescinded, antidumping duties shall be assessed at a rate equal to the cash deposit of estimated antidumping duties required at the time of entry, or withdrawal from warehouse, for consumption, in accordance with 19 CFR 351.212(c)(1)(i).

Cash Deposit Requirements

The following cash deposit requirements will be effective upon publication of the notice of the final results of the administrative review for all shipments of rebar from Mexico entered, or withdrawn from warehouse, for consumption on or after the date of publication of the final results, as provided by section 751(a)(2) of the Act: (1) the cash deposit rate for each company listed above will be equal to the dumping margins established in the final results of this review, except if the ultimate rate is de minimis within the meaning of 19 CFR 351.106(c)(1), in which case the cash deposit rates will be zero; (2) for merchandise exported by producers or exporters not covered in this administrative review but covered in a prior segment of the proceeding, the cash deposit rate will continue to be the company-specific rate published for the most recently completed segment of this proceeding in which the producer or exporter participated; (3) if the exporter is not a firm covered in this review, a prior review, or the original investigation but the producer is, then the cash deposit rate will be the rate established for the most recently completed segment of the proceeding for the producer of the merchandise; and (4) the cash deposit rate for all other producers or exporters will continue to be 20.58 percent, the all-others rate established in the AD investigation.²⁶ These cash deposit requirements, when imposed, shall remain in effect until further notice.

²⁶ See Order, 79 FR at 65926.

Notification to Importers

This notice also serves as a preliminary reminder to importers of their responsibility under 19 CFR 351.402(f)(2) to file a certificate regarding the reimbursement of antidumping duties prior to liquidation of the relevant entries during this review period. Failure to comply with this requirement could result in Commerce's presumption that reimbursement of antidumping duties occurred and the subsequent assessment of double antidumping duties.

Notification to Interested Parties

We are issuing and publishing these results in accordance with sections 751(a)(1) and 777(i)(1) of the Act, 19 CFR 351.213(h)(2) and 351.221(b)(4).

Dated: November 22, 2024.
Abdelali Elouaradia,
Deputy Assistant Secretary for Enforcement and Compliance.

Appendix I

List of Topics Discussed in the Preliminary Decision Memorandum

I. Summary

II. Background

III. Scope of the Order

IV. Rescission of Review, In Part

V. Preliminary Successor-in-Interest Determination

VI. Affiliation and Single Entity Treatment

VII. Discussion of the Methodology

VIII. Currency Conversion

IX. Recommendation

Appendix II

Companies Rescinded From Administrative Review

1. Compania Siderurgica del Pacifico S.A. de C.V.

2. Gerdau Corsa, S.A.P.I. de C.V.

3. Grupo Acerero S.A. de C.V.

4. Grupo Simec S.A.B. de C.V.; Aceros Especiales Simec Tlaxcala, S.A. de C.V.; Fundiciones de Acero Estructurales, S.A. de C.V.; Grupo Chant, S.A.P.I. de C.V.; Operadora de Perfiles Sigosa, S.A. de C.V.; Orge S.A. de C.V.; Perfiles Comerciales Sigosa, S.A. de C.V.; Siderurgicos Noroeste, S.A. de C.V.; Simec International 6 S.A. de C.V.; Simec International 7, S.A. de C.V.; Simec International, S.A. de C.V.

5. RRLC S.A.P.I. de C.V.

6. Sidertul S.A. de C.V.

7. Siderurgica del Occidente y Pacifico S.A. de C.V.

8. Simec International 9 S.A. de C.V.

[FR Doc. 2024-28154 Filed 11-29-24; 8:45 am]

BILLING CODE 3510-DS-P